GENERAL SERVICES ADMINISTRATION

[Notice CPL-2014-02; Docket No. 2014-0002; Sequence 35]

GSA Labor-Management Relations Council Meeting

AGENCY: General Services Administration.

ACTION: Notice of meeting.

SUMMARY: The GSA Labor-Management Relations Council (GLMRC) plans to meet on Tuesday, December 2, 2014 and Wednesday, December 3, 2014. The meeting will start at 9:30 a.m. Eastern Standard Time on both days and will be held in Room 1034 of the GSA National Capitol Region Building, 301 7th Street SW., Washington, DC 20407. Interested parties should contact the GLMRC at glmrc@gsa.gov with any questions and to check for any meeting changes.

The Council is an advisory body composed of representatives of the Federal employee unions representing General Services Administration (GSA) employees and senior GSA officials. The Council was established consistent with Executive Order 13522, entitled, “Creating Labor-Management Forums to Improve Delivery of Government Services” which instructs Federal agencies to establish department or agency-level labor-management forums to help identify problems and propose solutions to better serve the public and Federal agency missions.

The Council is co-chaired by GSA's Chief Human Capitol Officer, together with two senior union officials from each of the two Federal employees' unions representing GSA employees.

At its meetings, the GLMRC works toward promoting cooperative and productive relationships between labor and management, providing employees through their union representatives with pre-decisional involvement in all workplace matters to the fullest extent practicable. As a part of this, the GLMRC advises the GSA administrator on innovative ways to improve delivery of services and products to the public while cutting costs and advancing employee interests. The meeting is expected to include discussion of the GLMRC's priorities for the coming year, performance management policy, and workforce mobility and telework.

The meetings are open to the public. In order to gain entry into the Federal building where the meeting is being held, public attendees who are Federal employees should bring their Federal employee identification cards, and members of the general public should bring their driver's license or a government-issued photo identification card. The manner and time prescribed for public comment at the meeting is limited, with such comment taking place at the end of the meeting. Extended public comment may be submitted to the GLMRC at glmrc@gsa.gov for its consideration prior to the meeting.

FOR FURTHER INFORMATION CONTACT: Mrs. Temple L. Wilson, GLMRC Designated Federal Officer (DFO), at the General Services Administration, OHRM, 1800 F Street NW., Washington, DC 20405; phone at 202-969-7110, or email at glmrc@gsa.gov.

Dated: November 10, 2014.
Temple L. Wilson,
GSA Labor-Management Relations Council, Designated Federal Officer.

[FR Doc. 2014-27031 Filed 11-13-14; 8:45 am]

BILLING CODE 6820-34-P